DEPARTMENT OF THE INTERIOR

Bureau of Land Management

[CO-923-1430-ET; COC-70704]

Notice of Proposed Withdrawal and Opportunity for Public Meeting; Colorado

AGENCY: Bureau of Land Management, Interior.

ACTION: Notice; Correction.

SUMMARY: The Bureau of Land Management published a document in the Federal Register of February 23, 2007, concerning a notice of proposed withdrawal. The document contained errors in the land description.

FOR FURTHER INFORMATION CONTACT: Andrew J. Senti, BLM Colorado State Office, 303-239-3713.

In the Federal Register of February 23, 2007, in FR Doc. E7-3085, on page 8200, in the third column, make the following corrections to the land description:

Sec. 4, the sixth and seventh lines should read “a metes and bounds parcel within lot 1 and the NW¼NW¼;”

Sec. 15, the ninth and tenth lines should read “a metes and bounds parcel within the SW¼SE¼.”

Andrew J. Senti,
Acting Chief, Branch of Lands and Realty.

[FR Doc. E7-6013 Filed 3-30-07; 8:45 am]

BILLING CODE 4310-JB-P